SMALL BUSINESS ADMINISTRATION

[Declaration of Disaster #3631]

State of Ohio; Amendment #3

In accordance with a notice received from the Department of Homeland Security—Federal Emergency Management Agency—effective October 22, 2004, the above numbered declaration is hereby amended to include Lawrence County as a disaster area due to severe storms and flooding. In addition, applications for economic injury loans from small businesses located in the contiguous county of Scioto in the State of Ohio; Boyd and Greenup Counties in the Commonwealth of Kentucky; and Wayne County in the State of West Virginia may be filed until the specified date at the previously designated location. All other counties contiguous to the above named primary county have previously been declared.

The economic injury number assigned to Kentucky is 9AI600.

All other information remains the same, i.e., the deadline for filing applications for physical damage is November 18, 2004, and for economic injury the deadline is June 20, 2005.

(Catalog of Federal Domestic Assistance Program Nos. 59002 and 59008.)
Dated: October 25, 2004.
Herbert L. Mitchell,
Associate Administrator for Disaster Assistance.

[FR Doc. 04-24280 Filed 10-29-04; 8:45 am]

BILLING CODE 8025-01-P